NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 23, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Education, Office for Civil Rights, (N1-441-05-1, 9 items, 6 temporary items). Civil rights compliance reports submitted by state vocational education agencies, reference copies of electronic master files of elementary and secondary school civil rights surveys, and electronic copies of documents created using electronic mail and word processing. Proposed for permanent retention are such records as electronic master files containing data gathered in civil rights surveys and recordkeeping copies of files relating to state higher education desegregation plans and policies.

2. Department of Housing and Urban Development, Office of Public and Indian Housing (N1-207-04-1, 24 items, 19 temporary items). Inputs, outputs, work files, and other records associated with an electronic system that contains statistical information concerning low income public housing and housing for Native Americans. Master files and system documentation are proposed for permanent retention.

3. Department of Justice, Federal Bureau of Prisons (N1-129-04-6, 10 items, 8 temporary items). Inputs and outputs of the Office of Research and Evaluation's Key Indicators/Strategic Support System, which is used to monitor and track institutional performance and support policy formulation and policy impact assessment. Proposed for permanent retention are the system master files and the system documentation.

4. Department of Justice, Federal Bureau of Prisons (N1-129-04-7, 4 items, 2 temporary items). Inputs and outputs of an electronic information system maintained by the Information, Policy, and Public Affairs Division which is used to track individual inmates throughout the agency's facilities. Proposed for permanent retention are the system master files and the system documentation.

5. Department of State, Bureau of Educational and Cultural Affairs (N1-59-05-6, 11 items, 6 temporary items). Exchange proposals, copies of treaties, and personnel files maintained by the J. William Fulbright Foreign Scholarship Board. Also included are electronic copies of records created using electronic mail and word processing. Proposed for permanent retention are recordkeeping copies of meeting files, membership files, reports, general subject files, and country files.

6. Department of Transportation, Federal Aviation Administration (N1-237-04-3, 31 items, 25 temporary items). Records relating to the registration, recordation, and leasing of aircraft. Included are paper aircraft registration and recordation files that have been imaged, backup copies of signature authorization files, export certificate of airworthiness files, engine propeller and spare parts location recordation files, dealer's aircraft registration certificate files, truth-in-leasing files, foreign aircraft leases files, finding aids, and summary reports with statistical data. Also included are electronic copies of records created using electronic mail and word processing.

Proposed for permanent retention are recordkeeping copies of aircraft registration and recordation files, signature authorization files, finding aids, summary reports with statistical data, and annual snapshot of the Aircraft Registration Master File.

7. Department of Transportation, Federal Motor Carrier Safety Administration (N1-557-05-12, 12 items, 9 temporary items). Records accumulated by the Office of Communications, including briefing materials, budget background records, chronological files, copies of press releases, report files, copies of speeches, and working papers. Also included are electronic copies of records created using electronic mail and word processing. Proposed for permanent retention are recordkeeping copies of press releases, agency-wide publications, and speech files. This schedule authorizes the agency to apply the proposed disposition instructions to any recordkeeping medium.

8. Department of the Treasury, Bureau of Public Debt (N1-53-05-3, 4 items, 4 temporary items). Records relating to mail management and external audits, including electronic copies of records created using electronic mail and word processing.

9. National Aeronautics and Space Administration, Agency-wide (N1-255-04-3, 13 items, 12 temporary). Files relating to projects that pertain to space flight, aerospace technology research, and basic or applied scientific research that lack historical significance. Also included are routine records relating to historically significant projects as well as files relating to these projects that are not required for documenting the history of the project and/or agency programs, but have operational value to the agency throughout the program or project life cycle. Also included are electronic copies of records created using electronic mail and word processing. Proposed for permanent retention are recordkeeping copies of files relating to historically significant projects that must be retained to document the history of the project and/or agency programs. The schedule provides criteria for identifying historically significant projects (e.g., produce major contributions to scientific knowledge, establish precedents, attract widespread media attention, etc.). For historically significant projects, the schedule describes the three categories of records (routine records, long-term temporary records, and permanent records) in broad terms. It also includes detailed notes defining the types of records that typically fall into each category. Routine records include such materials as cost data, presentation materials, agendas, and budget information. Long-term records that will be retained throughout the project life cycle include such records as configuration management controls, interface control documents, periodic reports, Program Control Board minutes, waivers, work instructions and authorizations, and quality assurance audit reports. Permanent records include such files as operations plans, formulation documents, concept documents, technology assessments, approval records, design development information, manufacture, fabrication, and assembly records, flight verification and certification reports, implementation and operational records, and evaluation and termination documents. This schedule authorizes the agency to apply the proposed disposition instructions to records regardless of the recordkeeping medium.

Dated: March 30, 2005.
Michael J. Kurtz,
Assistant Archivist for Records Services—Washington, DC.

[FR Doc. 05-6833 Filed 4-5-05; 8:45 am]

BILLING CODE 7515-01-P